INTERNATIONAL TRADE COMMISSION

[Investigation No. 337-TA-798]

Certain Light-Emitting Diodes and Products Containing Same; Commission Determination Not To Review an Initial Determination Terminating the Investigation in Its Entirety on the Basis of a Settlement Agreement

AGENCY: U.S. International Trade Commission.

ACTION: Notice.

SUMMARY: Notice is hereby given that the U.S. International Trade Commission has determined not to review the presiding administrative law judge's (“ALJ”) initial determination (“ID”) (Order No. 38) granting the joint motion to terminate the above-captioned investigation in its entirety on the basis of a settlement agreement. In view of that determination, the Commission finds that review of another ID (Order No. 36), which granted leave to amend the complaint and notice of investigation, is moot.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 18, 2011, based on a complaint filed by Samsung LED Co., Ltd. of Suwon City, Korea, and Samsung LED America, Inc. of Atlanta, Georgia (collectively, “SLED”). 76 FR 51396-97 (Aug. 18, 2011). The complaint alleged violations of section 337 of the Tariff Act of 1930, as amended, 19 U.S.C. 1337, in the importation into the United States, the sale for importation, and the sale within the United States after importation of certain light-emitting diodes and products containing same by reason of infringement of certain claims of U.S. Patent Nos. 7,282,741; 7,893,443; 7,838,315; 7,959,312; 7,964,881; 6,551,848; 7,268,372; and 7,771,081. The Commission's notice of investigation named as respondents OSRAM GmbH of Munich, Germany; OSRAM Opto Semiconductors GmbH of Regensburg, Germany; OSRAM Opto Semiconductors Inc. of Sunnyvale, California; and OSRAM Sylvania Inc. of Danvers, Massachusetts (collectively, “OSRAM”). On December 7, 2011, the Commission determined not to review an ID (Order No. 15) granting SLED's motion to amend the Notice of Investigation to change the name of respondent OSRAM GmbH to OSRAM AG. Notice (Dec. 7, 2011).

On July 26, 2012, SLED filed a motion to amend the Complaint and Notice of Investigation to substitute Samsung Electronics Co., Ltd. of Suwon City, Korea (“Samsung Electronics”), for the SLED complainants, as a result of corporate reorganization. On July 30, 2012, OSRAM filed an opposition, and on August 7, 2012, the ALJ issued an ID granting the motion as an ID. Order No. 36.

On August 9, 2012, SLED and OSRAM filed a joint motion to terminate the investigation in its entirety based on a settlement agreement between OSRAM and Samsung Electronics. On August 10, 2012, the ALJ granted the motion as an ID. Order No. 38.

No petitions for review of either ID were filed. The Commission has determined not to review Order No. 38, and the investigation is thereby terminated. As a result, review of Order No. 36 is moot.

The authority for the Commission's determination is contained in section 337 of the Tariff Act of 1930, as amended (19 U.S.C. 1337), and in sections 210.21 and 210.42 of the Commission's Rules of Practice and Procedure (19 CFR 210.21, 210.42).

By order of the Commission.
Issued: September 5, 2012.
Lisa R. Barton,
Acting Secretary to the Commission.

[FR Doc. 2012-22171 Filed 9-7-12; 8:45 am]

BILLING CODE 7020-02-P